DEPARTMENT OF THE INTERIOR

Bureau of Land Management

[LLNVL01000. L51100000.GN0000. LVEMF1301170 241A.241A; NVN-090444; 13-08807; TAS: 14X5017]

Notice of Availability of the Final Environmental Impact Statement for the Proposed Pan Mine Project, White Pine County, NV

AGENCY: Bureau of Land Management, Interior.

ACTION: Notice of availability.

SUMMARY: In compliance with the National Environmental Policy Act of 1969, as amended, and the Federal Land Policy and Management Act of 1976, as amended, the Bureau of Land Management (BLM) Egan Field Office, Ely, Nevada, has prepared a Final Environmental Impact Statement (EIS) for the proposed Pan Mine Project and by this notice is announcing its availability.

DATES: The BLM will not issue a final decision until after December 19, 2013.

ADDRESSES: Copies of the Final EIS for the Pan Mine Project are available for public inspection at the BLM Ely District Office and also for review on the Ely District's Web page at: http://www.blm.gov/nv/st/en/fo/ely_field_office/blm_programs/minerals/mining_projects/pan_mine_project.html.

FOR FURTHER INFORMATION CONTACT: Miles Kreidler, project lead, telephone: 775-289-1893; address: 702 North Industrial Way, Ely, NV 89301; email: mkreidler@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Midway Gold US, Inc. (Midway) proposes to construct and operate an open-pit gold mining operation in the northern part of the Pancake Mountain Range, approximately 50 miles west of Ely in White Pine County, Nevada. The proposed location is 10 miles south of U.S. Route 50 near Newark Valley. The proposed operations and associated disturbance would be on approximately 3,204 acres of public land managed by the BLM. The proposed power line runs along Highway 50 and south along a proposed access road to the mine site. An updated inventory of lands with wilderness characteristics was completed and no lands with wilderness characteristics were identified in the project area. The estimated project life of the mine is 25 years, which includes 13 years of mining and additional time for associated construction, closure, and post-closure monitoring periods. During operations, the total number of employees would be approximately 150. Midway is currently conducting exploration activities in this area which were analyzed in two environmental assessments (EA): the Castleworth Ventures, Inc. Pan Exploration Project EA (May 2004) and the Midway Gold Pan Project Exploration Amendment EA (July 2011).

The Final EIS describes and analyzes the proposed project site-specific impacts (including cumulative) on all affected resources. Four alternatives are analyzed: The Proposed Action, the Waste Rock Disposal Site Design Alternative, the Southwest Power Line Alternative, and the No Action Alternative. The Southwest Power Line Alternative was developed to avoid potential impacts to Greater Sage-Grouse from the Proposed Action power line. It is farther away from two active Greater Sage-Grouse leks and impacts less Preliminary Priority Habitat. The Waste Rock Disposal Site Design Alternative would result in a decrease of 79 acres of disturbance compared to the Proposed Action. It would also involve a conventional waste rock disposal design and move waste rock away from more important Greater Sage-Grouse habitat in order to minimize impacts to this important species. Ten other alternatives are considered but eliminated from further analysis. Mitigation measures were considered under each alternative to minimize environmental impacts and to assure the proposed action does not result in unnecessary or undue degradation of public lands.

On April 16, 2012, a Notice of Intent was published in the Federal Register inviting scoping comments on the Proposed Action. A legal notice was prepared by the BLM and published in the Elko Daily Free Press, Ely Daily Times, and the Reno Gazette-Journal informing the public of the BLM's intention to prepare the Pan Mine EIS. Public scoping meetings were held in May 2012 in Ely, Eureka, and Reno, Nevada. A total of 26 comments were received. The comments are incorporated in a Scoping Summary Report and were considered in the preparation of this Final EIS.

Concerns raised during scoping include: Potential impacts to archaeological resources, including the Carbonari sites and the loss of use of the 1913 alternative route of the Lincoln Highway; impacts to population and habitat of Greater Sage-Grouse; impacts to wild horses and their habitat; impacts to air quality through point (equipment) and non-point (waste rock disposal areas) pollution sources; changes to the quantity and quality of surface water and groundwater; potential occurrence of acid drainage from waste rock disposal areas into surface and groundwater; impacts to the fragile desert landscape, vegetation communities, and vegetative food resources for wildlife; short- and long-term impacts on wildlife population dynamics and habitats; impacts to general health of the rangeland resources; release of pollutants and hazardous materials to the environment during operations and following closure; increase in light pollution in the areas and direct visual impacts from mine facilities; positive and negative socioeconomic impacts to the communities of Ely and Eureka, and to White Pine County; and cumulative impacts to wildlife, wild horses, cultural, air, water, and vegetation resources. The two action alternatives were developed to avoid, minimize, and mitigate potential impacts to Greater Sage-Grouse. Mitigation measures have been included to show how impacts on all resources could be minimized.

The BLM prepared the Draft EIS in conjunction with its three cooperating agencies: The Nevada Department of Wildlife, the Eureka County Commissioners, and the White Pine County Commissioners. A Notice of Availability was published in the Federal Register on March 22, 2013 (78 FR 17713), and the public was invited to provide written comments on the Draft EIS during the 45-day comment period. Public meetings were conducted during the review period for the Draft EIS.

Comments on the Draft EIS received from the cooperating agencies, the public, and the internal BLM review were considered and incorporated, as appropriate, into the Final EIS. The comments included concerns to affects to the Lincoln Highway, Greater Sage-Grouse and its habitat, migratory birds, pygmy rabbits, air quality, night sky viewing, socioeconomics, and water quantity. There were also comments received in general support for the mine. These public comments resulted in the addition of clarifying text, but did not significantly change the analysis. The agency preferred alternative is a combination of the Southwest Power Line Alternative and the Waste Rock Disposal Site Design Alternative.

Following a 30-day Final EIS availability and review period, a Record of Decision (ROD) will be issued. The decision reached in the ROD is subject to appeal to the Interior Board of Land Appeals. The 30-day appeal period begins with the issuance of the ROD.

Authority: 40 CFR part 1501 and 43 part CFR 3809.

Jill A. Moore,
Field Manager, Egan Field Office.

[FR Doc. 2013-28123 Filed 11-21-13; 8:45 am]

BILLING CODE 4310-HC-P